DEPARTMENT OF THE INTERIOR

Fish and Wildlife Service

50 CFR Part 20

RIN 1018-AI30

Migratory Bird Hunting; Late Seasons and Bag and Possession Limits for Certain Migratory Game Birds

Correction

In rule document 02-23804 beginning on page 59358 in the issue of Friday, September 20, 2002 make the following correction:

Starting on page 59361 and concluding on page 59384 the text should read as follows:

[FR Doc. C2-23804 Filed 11-1-02; 8:45 am]

BILLING CODE 1505-01-D